DEPARTMENT OF COMMERCE

International Trade Administration

[A-570-601]

Tapered Roller Bearings and Parts Thereof, Finished and Unfinished From the People's Republic of China: Initiation of Antidumping Duty New Shipper Review

AGENCY: Import Administration, International Trade Administration, Department of Commerce.

DATES: Effective Date: February 4, 2011.

SUMMARY: The Department of Commerce (“Department”) has determined that a request for a new shipper review (“NSR”) of the antidumping duty order on tapered roller bearings (“TRBs”) from the People's Republic of China (“PRC”) meets the statutory and regulatory requirements for initiation. The period of review (“POR”) for this NSR is June 1, 2010, through November 30, 2010.

FOR FURTHER INFORMATION CONTACT: Andrew Medley, AD/CVD Operations, Office 8, Import Administration, International Trade Administration, U.S. Department of Commerce, 14th Street and Constitution Avenue, NW., Washington, DC 20230; telephone: 202-482-4987.

SUPPLEMENTARY INFORMATION:

Background

The notice announcing the antidumping duty order on TRBs from the PRC was published in the Federal Register on June 15, 1987. See Antidumping Duty Order; Tapered Roller Bearings and Parts Thereof, Finished or Unfinished, From the People's Republic of China, 52 FR 22667 (June 15, 1987) (“Order”). On December 23, 2010, pursuant to section 751(a)(2)(B)(i) of the Tariff Act of 1930, as amended (“Act”), and 19 CFR 351.214(a), the Department received a NSR request from Xiang Yang Automobile Bearing Co., Ltd. (“ZXY”). ZXY's request was properly made during December 2010, which is the semi-annual anniversary of the Order. See 19 CFR 351.214(d). The Department had concerns with ZXY's treatment of its proprietary information in its original submission and requested that ZXY revise and re-submit its NSR request. See January 12, 2011 letter to ZXY. In accordance with the Department's request, ZXY revised the treatment of its proprietary information and re-filed the submission on January 14, 2011. For the purpose of initiating this NSR, the Department determines that ZXY's original submission was timely filed.

In its submission, ZXY certified that it is the exporter and producer of the subject merchandise upon which the request was based. Pursuant to section 751(a)(2)(B)(i)(I) of the Act and 19 CFR 351.214(b)(2)(i), ZXY certified that it did not export TRBs to the United States during the period of investigation (“POI”). In addition, pursuant to section 751(a)(2)(B)(i)(II) of the Act and 19 CFR 351.214(b)(2)(iii)(A), ZXY certified that, since the initiation of the investigation, it has not been affiliated with a Chinese exporter or producer who exported TRBs to the United States during the POI, including those not individually examined during the investigation. As required by 19 CFR 351.214(b)(2)(iii)(B), ZXY also certified that its export activities were not controlled by the central government of the PRC.

In addition to the certifications described above, pursuant to 19 CFR 351.214(b)(2)(iv), ZXY submitted documentation establishing the following: (1) The date on which ZXY first shipped TRBs for export to the United States and the date on which the TRBs were first entered, or withdrawn from warehouse, for consumption; (2) the volume of its first shipment; and (3) the date of its first sale to an unaffiliated customer in the United States.

The Department conducted U.S. Customs and Border Protection (“CBP”) database queries in an attempt to confirm that ZXY's shipments of subject merchandise had entered the United States for consumption and that liquidation of such entries had been properly suspended for antidumping duties. The Department also examined whether the CBP data confirmed that such entries were made during the NSR POR.¹ The information which the Department examined was consistent with that provided by ZXY in its request. See Memorandum to The File from Andrew Medley, Analyst, “Initiation of Antidumping New Shipper Review: Tapered Roller Bearings and Parts Thereof, Finished and Unfinished, from the People's Republic of China, A-570-601,” (“Initiation Checklist”) dated concurrently with this notice, at 5. However, the Department has concerns with certain other information contained within the CBP data. Due to the business proprietary nature of this information, please refer to the Initiation Checklist for further discussion. On January 25, 2011, the Department issued a questionnaire to ZXY in order to seek additional information with respect to the CBP data. The Department intends to address this issue after initiation of the NSR.

¹ See January 18, 2011, memorandum to the file, regarding “U.S. Customs and Border Protection Data.”

Period of Review

In accordance with 19 CFR 351.214(g)(1)(i)(B), the POR for an NSR initiated in the month immediately following the semiannual anniversary month will be the six-month period immediately preceding the semiannual anniversary month. Therefore, under this order, the POR is June 1, 2010, through November 30, 2010. The sales and entries into the United States of subject merchandise produced and exported by ZXY occurred during this six-month POR. Therefore, the POR for this NSR is June 1, 2010 through November 30, 2010.

Initiation of New Shipper Reviews

Pursuant to section 751(a)(2)(B) of the Act and 19 CFR 351.214(b), the Department finds that the request submitted by ZXY meets the threshold requirements for initiation of a NSR for the shipment of TRBs from the PRC produced and exported by ZXY. See Initiation Checklist. However, if the information supplied by ZXY is later found to be incorrect or insufficient during the course of this proceeding, the Department may rescind the review or apply adverse facts available pursuant to section 776 of the Act, depending upon the facts on record. The Department intends to issue the preliminary results of this NSR no later than 180 days from the date of initiation, and the final results no later than 90 days from the issuance of the preliminary determination. See section 751(a)(2)(B)(iv) of the Act.

It is the Department's usual practice, in cases involving non-market economies, to require that a company seeking to establish eligibility for an antidumping duty rate separate from the country-wide rate provide evidence of de jure and de facto absence of government control over the company's export activities. Accordingly, the Department will issue a questionnaire to ZXY which will include a section requesting information with regard to ZXY's export activities for separate rates purposes. The review will proceed if the response provides sufficient indication that ZXY is not subject to either de jure or de facto government control with respect to its export of subject merchandise.

The Department will instruct CBP to allow, at the option of the importer, the posting, until the completion of the review, of a bond or security in lieu of a cash deposit for each entry of the subject merchandise from ZXY in accordance with section 751(a)(2)(B)(iii) of the Act and 19 CFR 351.214(e). Because ZXY certified that it produced and exported the subject merchandise, the Department will apply the bonding privilege to ZXY for all subject merchandise produced and exported by ZXY.

Interested parties requiring access to proprietary information in this NSR should submit applications for disclosure under administrative protective order in accordance with 19 CFR 351.305 and 19 CFR 351.306. This initiation and notice are in accordance with section 751(a)(2)(B) of the Act and 19 CFR 351.214 and 19 CFR 351.221(c)(1)(i).

Dated: January 31, 2011.
Christian Marsh,
Deputy Assistant Secretary for Antidumping and Countervailing Duty Operations.

[FR Doc. 2011-2522 Filed 2-3-11; 8:45 am]

BILLING CODE 3510-DS-P